SMALL BUSINESS ADMINISTRATION

Reporting and Recordkeeping Requirements Under OMB Review

AGENCY: Small Business Administration.

ACTION: 30-Day notice.

SUMMARY: The Small Business Administration (SBA) is seeking approval from the Office of Management and Budget (OMB) for the information collection described below. In accordance with the Paperwork Reduction Act and OMB procedures, SBA is publishing this notice to allow all interested member of the public an additional 30 days to provide comments on the proposed collection of information.

DATES: Submit comments on or before June 12, 2023.

ADDRESSES: Written comments and recommendations for this information collection request should be sent within 30 days of publication of this notice to www.reginfo.gov/public/do/PRAMain. Find this particular information collection request by selecting “Small Business Administration”; “Currently Under Review,” then select the “Only Show ICR for Public Comment” checkbox. This information collection can be identified by title and/or OMB Control Number.

FOR FURTHER INFORMATION CONTACT: You may obtain a copy of the information collection and supporting documents from the Agency Clearance Office at Curtis.Rich@sba.gov; (202) 205-7030, or from www.reginfo.gov/public/do/PRAMain.

SUPPLEMENTARY INFORMATION: The Disaster Loan Program is an SBA financing program authorized under the Small Business Act of 1953, 15 U.S.C. 636 et seq. SBA provides low-interest disaster loans to help businesses and homeowners recover from declared disasters. The information collection that is approved under OMB Control Number 3245-0017 facilitates the ongoing administration of the Disaster Loan Program. This information collection currently consists of SBA Form 5 titled Disaster Business Loan Application. SBA recognizes that this information collection needs to be modernized to meet the needs of homeowners and small business applicants during their recovery after a disaster. As a result, SBA intends to make revisions to this information collection that would streamline the process. These form revisions will result in greater clarity and understanding for victims applying for assistance. SBA Form 5 will be updated to incorporate all business types including sole proprietors. Questions on SBA Form 5 will be reorganized and simplified, and as needed other questions may be added based on the Agency's recent experience with the Coronavirus pandemic.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Solicitation of Public Comments

Comments may be submitted on (a) whether the collection of information is necessary for the agency to properly perform its functions; (b) whether the burden estimates are accurate; (c) whether there are ways to minimize the burden, including through the use of automated techniques or other forms of information technology; and (d) whether there are ways to enhance the quality, utility, and clarity of the information.

OMB Control 3245-0017

Title: Disaster Business Loan Application.

Description of Respondents: Disaster survivors seeking disaster loan assistance.

Form Number: SBA Form 5.

Estimated Number of Respondents: 23,833.

Estimated Annual Responses: 23,833.

Estimated Annual Hour Burden: 29,791.

Curtis Rich,
Agency Clearance Officer.

[FR Doc. 2023-10183 Filed 5-11-23; 8:45 am]

BILLING CODE 8026-09-P